DEPARTMENT OF COMMERCE

Foreign-Trade Zones Board

[Order No. 1864]

Expansion of Foreign-Trade Zone 158; Vicksburg/Jackson, MS

Pursuant to its authority under the Foreign-Trade Zones Act of June 18, 1934, as amended (19 U.S.C. 81a-81u), the Foreign-Trade Zones Board (the Board) adopts the following Order:

Whereas, the Greater Mississippi Foreign-Trade Zone, Inc., grantee of Foreign-Trade Zone 158, submitted an application to the Board for authority to expand FTZ 158-Site 8 to include additional acreage in Senatobia, Mississippi, adjacent to the Memphis Customs and Border Protection port of entry (Docket 70-2010, filed December 14, 2010);

Whereas, notice inviting public comment has been given in the Federal Register (75 FR 79335-79336, 12/20/2010; correction 75 FR 82372, 12/30/2010) and the application has been processed pursuant to the FTZ Act and the Board's regulations; and,

Whereas, the Board adopts the findings and recommendations of the examiner's report, and finds that the requirements of the FTZ Act and the Board's regulations would be satisfied, and that the proposal would be in the public interest if subject to specific conditions;

Now, therefore, the Board hereby orders:

The application to expand FTZ 158 is approved, subject to the FTZ Act and the Board's regulations, including Section 400.13, to the Board's standard 2,000-acre activation limit for the overall general-purpose zone, and further subject to a sunset provision that would terminate authority on October 31, 2017, for Sites 1, 2, 3, 6, 7, 8 (including the addition to Site 8) and 9 where no activity has occurred under FTZ procedures before that date.

Signed at Washington, DC, this day 18th day of October 2012.
Paul Piquado,
Assistant Secretary of Commerce for Import Administration, Alternate Chairman, Foreign-Trade Zones Board.
Attest:
Elizabeth Whiteman,
Acting Executive Secretary.

[FR Doc. 2012-26404 Filed 10-25-12; 8:45 am]

BILLING CODE 3510-DS-P